DEPARTMENT OF VETERANS AFFAIRS

Advisory Committee on Women Veterans; Notice of Meeting

The Department of Veterans Affairs (VA) gives notice under Public Law 92-463 (Federal Advisory Committee Act) that a meeting of the Advisory Committee on Women Veterans will be held on March 30-April 1, 2010, at the Capital Hilton, 1001 16th Street, NW., Washington, DC, from 8:30 until 4:30 p.m. each day. The meeting is open to the public.

The purpose of the Committee is to advise the Secretary of Veterans Affairs regarding the needs of women Veterans with respect to health care, rehabilitation, compensation, outreach, and other programs and activities administered by VA designed to meet such needs. The Committee makes recommendations to the Secretary regarding such programs and activities.

On March 30, the Committee will meet in the Statler AB Room and the session will include an overview of Veterans Health Administration initiatives, the women Veterans Health Strategic Health Care Group and the Veterans Benefits Administration initiatives targeting women Veterans. On March 31, the Committee will meet in the South American AB Room and the session will include an update on VA's outreach to women Veterans, VA's contract exam and the Committee's 2008 report recommendations. On April 1, the Committee will meet in the Federal B Room to resume working on its 2010 report to the Secretary.

Any member of the public wishing to attend should contact Ms. Shannon L. Middleton at the Department of Veterans Affairs, Center for Women Veterans (00W), 810 Vermont Avenue, NW., Washington, DC 20420, or call (202) 461-6193, or fax at (202) 273-7092, or e-mail at 00W@mail.va.gov. Interested persons may attend, appear before, or file statements with the Committee. Written statements must be filed before the meeting, or within 10 days after the meeting.

Dated: March 12, 2010.
By Direction of the Secretary.
Vivian Drake,
Acting Committee Management Officer.

[FR Doc. 2010-5866 Filed 3-17-10; 8:45 am]

BILLING CODE P